DEPARTMENT OF ENERGY

Federal Energy Regulatory Commission

[Project No. 15105-000]

Solia 9 Hydroelectric, LLC; Notice of Preliminary Permit Application Accepted for Filing and Soliciting Comments, Motions To Intervene, and Competing Applications

On March 1, 2021, Solia 9 Hydroelectric, LLC filed an application for a preliminary permit, pursuant to section 4(f) of the Federal Power Act, proposing to study the feasibility of the Llano County Pumped Storage Project No. 15105-000 (Llano County Project, or project), a closed-loop pumped storage project to be located in Llano County, Texas. The sole purpose of a preliminary permit, if issued, is to grant the permit holder priority to file a license application during the permit term. A preliminary permit does not authorize the permit holder to perform any land-disturbing activities or otherwise enter upon lands or waters owned by others without the owners' express permission.

The proposed pumped storage project would consist of the following: (1) A 3,500 acre-foot upper reservoir with a maximum water surface elevation of 2,400 feet mean sea level (msl); (2) a 3,500 acre-foot lower, underground, reservoir composed of eight, 115,000-foot-long, concentric tunnels varying in diameter from 4,200 feet to 5,400 feet, with a maximum water surface elevation of −1,425 feet msl; (3) a pumping plant and water supply conduit connecting the upper reservoir to the Llano River; (4) a 2,800-foot-long, 16-foot-diameter underground, steel-lined penstock equipped with a bifurcation structure connecting the upper reservoir to the powerhouse; (5) a 200-foot-long, 70-foot-wide, 130-foot-high underground powerhouse containing two, 333-megawatt (MW) reversible pump-turbine units for a combined capacity of 666 MW; (6) a 500-foot-long, 345-kilovolt interconnection line leading from the powerhouse to an existing transmission line; (7) a 200-foot-long, 200-foot-wide substation; and (8) appurtenant facilities. The estimated annual generation of the Llano Project would be 1,450 gigawatt-hours.

Applicant Contact: Douglas Spaulding, 8441 Wayzata Blvd., Suite 101, Golden Valley, Minnesota 55426; phone: (952) 544-8133; email: doug@nelsonenergy.us.

FERC Contact: Navreet Deo; phone: (202) 502-6304; email: navreet.deo@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

More information about this project, including a copy of the application, can be viewed or printed on the “eLibrary” link of Commission's website at http://www.ferc.gov/docs-filing/elibrary.asp. Enter the docket number (P-15105) in the docket number field to access the document. For assistance, contact FERC Online Support.

Dated: April 20, 2021.
Kimberly D. Bose,
Secretary.

[FR Doc. 2021-08608 Filed 4-23-21; 8:45 am]

BILLING CODE 6717-01-P